DEPARTMENT OF THE INTERIOR

Bureau of Indian Affairs

Indian Gaming

AGENCY: Bureau of Indian Affairs, Interior.

ACTION: Notice of approval of amendment to Tribal-State Compact.

SUMMARY: Pursuant to Section 11 of the Indian Gaming Regulatory Act of 1988 (IGRA), Pub. L. 100-497, 25 U.S.C. § 2710, the Secretary of the Interior shall publish, in the Federal Register, notice of approved Tribal-State Compacts for the purpose of engaging in Class III gaming activities on Indian lands. The Assistant Secretary—Indian Affairs, Department of the Interior, through his delegated authority, has approved an Amendment, executed on May 2, 2000, to the Gaming Compact between the Tunica-Biloxi Indian Tribe of Louisiana and the State of Louisiana.

DATES: This action is effective May 12, 2000.

FOR FURTHER INFORMATION CONTACT: George T. Skibine, Director, Office of Indian Gaming Management, Bureau of Indian Affairs, Washington, DC 20240, (202) 219-4066.

Dated: May 3, 2000.
Kevin Gover,
Assistant Secretary—Indian Affairs.

[FR Doc. 00-11941 Filed 5-11-00; 8:45 am]

BILLING CODE 4310-02-P